DEPARTMENT OF HEALTH AND HUMAN SERVICES

Administration for Children and Families

Proposed Information Collection Activity; Comment Request

Proposed Projects:

Title:

Improper Payments Best Practices Survey for the TANF Program

Improper Payments Best Practices Survey for the CCDF Program

OMB No.: New collection.

Description: These surveys for the Temporary Assistance for Needy Families (TANF) and the Child Care and Development Fund (CCDF) programs will request that states voluntarily provide information, including how they fefine improper payments in their state, the process used to identify such payments and what actions are taken in the state to reduce or eliminate improper payments. The Administration for Children and Families (ACF) within the U.S. Department of Health and Human Services (HHS) intends to establish a repository for the state submissions which will be available to all states for viewing on an HHS/ACF website. This website will provide information that will help states improve their program integrity system(s) so that improper payments in the programs can be reduced.

Respondents: The 50 States of the United States, the District of Columbia, and the Territories of Guam, Puerto Rico, and the Virgin Islands.

Annual Burden Estimates
Instrument | Number of respondents | Number of responses per respondent | Average burden hours per response | Total burden hours
Improper Payments Best Practices Survey for the TANF Program | 54 | 1 | 24 | 1,296
Improper Payments Best Practices Survey for the CCDF Program | 54 | 1 | 24 | 1,296
Estimated Total Annual Burden Hours |  |  |  | 2,592

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 11, 2004.
Robert Sargis,
Reports Clearance Officer.

[FR Doc. 04-18839 Filed 8-17-04; 8:45 am]

BILLING CODE 4184-01-M